DEPARTMENT OF AGRICULTURE

Food and Nutrition Service

Agency Information Collection Activities: Supplemental Nutrition Assistance Program Emergency Allotments (COVID-19)

AGENCY: Food and Nutrition Service (FNS), USDA.

ACTION: Notice.

SUMMARY: In accordance with the Paperwork Reduction Act of 1995, this notice invites the general public and other public agencies to comment on this proposed information collection. This collection is an extension, without change, of a currently approved collection for activities associated with administering emergency allotments (EA) waivers. The Families First Coronavirus Response Act of 2020, enacted March 18, 2020, includes a general provision that allows the Department of Agriculture to issue EA waivers based on a public health emergency declaration by the Secretary of Health and Human Services under section 319 of the Public Health Service Act related to an outbreak of COVID-19 when a State has also issued an emergency or disaster declaration.

DATES: Written comments must be received on or before January 23, 2023.

ADDRESSES: Comments may be sent to: Erica Kain, Food and Nutrition Service, U.S. Department of Agriculture, 1320 Braddock Place, 5th Floor, Alexandria, VA 22314; or by phone at (312) 339-1939. Comments may also be submitted via email to SM.FN.SNAP.Issuance.Policy@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Erica Kain at SM.FN.SNAP.Issuance.Policy@usda.gov; or by phone at (312) 339-1939.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Agency Information Collection Activities: Supplemental Nutrition Assistance Program Emergency Allotments (COVID-19).

OMB Number: 0584-0652.

Expiration Date: 8/31/2023.

Type of Request: Extension, without change, of a currently approved collection.

Abstract: The Families First Coronavirus Response Act of 2020 (Pub. L. 116-127), enacted March 18, 2020, includes a general provision that allows the Department of Agriculture to issue emergency allotments (EA) based on a public health emergency declaration by the Secretary of Health and Human Services under section 319 of the Public Health Service Act related to an outbreak of COVID-19 when a State has also issued an emergency or disaster declaration. In January 2021, the Department obtained Office of Management and Budget (OMB) approval to collect the information as described in this Notice for a period of one year (OMB Control Number 0584-0652; expiration 1/31/2022). The President's Executive Order on Economic Relief Related to the COVID-19 Pandemic, issued January 22, 2021, directed all Federal agencies to consider administrative actions to better address the current economic crisis resulting from the pandemic. FNS reviewed existing EA policy and issued updated State guidance ¹ on April 1, 2021, outlining a new approach to calculating EA that provides greater equity for households most in need. The April 2021 guidance superseded previous guidance issued in March 2020 and April 2020. In addition to outlining a new EA minimum benefit policy, the April 2021 guidance described an EA phase-out request States may use when their State-level emergency declaration expiration date is imminent. The State agency process for requesting EA, as outlined in the April 2021 guidance, now includes an attestation requirement confirming that the State's emergency or disaster declaration remains active when requesting EA. On May 21, 2021, FNS provided further operational guidance to SNAP State Agencies and Regional Offices in a Q&A document provided in response to questions raised during webinars based on the April 1, 2021 guidance.² FNS reiterated April 1, 2021 guidance in a memorandum dated December 14, 2021, in which FNS described the EA phase-out process.³ USDA anticipates the need to collect the data beyond the expiration date and is seeking approval of this Information Collection Request in order to meet the continuing information collection and reporting requirements detailed in the Families First Coronavirus Response Act of 2020.

¹ https://fns-prod.azureedge.net/sites/default/files/resource-files/snap-covid-emergency-allotments-phase-3-guidance.pdf.

² https://fns-prod.azureedge.us/sites/default/files/resource-files/EA%20QAs_5_20_2021_FINAL.pdf.

³ https://fns-prod.azureedge.us/sites/default/files/resource-files/snap-ea-information-end-national-phe.pdf.

As authorized by Families First Coronavirus Response Act of 2020, State agencies impacted by COVID-19 may submit an EA waiver request to their FNS Regional Office for approval to provide an EA to households to bring all households up to the maximum benefit due to pandemic related economic conditions. As outlined in the April 2021 guidance, State agency waivers will generally be approved under one or more the following conditions as it relates to COVID-19:

• Residents of the State are confirmed to have contracted COVID-19.

• Some or all areas of the State are containment or quarantine zones.

• Businesses have closed or significantly reduced their hours.

• The State's residents have experienced economic impacts due to job suspensions or losses.

• The State's residents have been directed to practice social distancing.

The State agency must also confirm that the State's emergency or disaster declaration remains active.

In addition, to allow for State EA phase-out upon expiration of the State's emergency declaration, States may request EA approval for one additional issuance month if:

• The national public health emergency declaration that was extended on October 13, 2022, by the Secretary for Health and Human Services under section 319 of the Public Health Service Act remains in place, and

• The State-issued emergency or disaster declaration has expired or will expire in the current month. This will allow a State that has lost or will lose its declaration in the current month to provide one additional issuance month of EA and to notify SNAP participants that EA benefits will be ending.

Once the State's EA waiver has been approved by FNS, the State may provide the EA without contacting the household. Following waiver approval, FNS will require State Agencies to attest to FNS on a monthly basis the EA waiver is still needed and that the State declaration remains in place. Both the initial EA waiver and the monthly attestation are conducted via email. FNS expects 53 State agencies will submit one initial EA waiver to FNS. Currently 36 State agencies are operating under an EA waiver. Although there are currently less than 53 States operating under an EA waiver, it is possible that States may have more than one declared public health emergency over the next few years as COVID-19 rates ebb and flow. For this reason, we are including hours for the entire universe for State agencies. We are requesting approval for 53 initial waiver requests in this IC as a precautionary measure.

There are three reporting requirements for this information collection request. (1) Each initial EA waiver submission should take approximately one hour to complete. (2) Each monthly email attesting to the continued need for the EA waiver is expected to take 15 minutes to complete. FNS expects that any phase-out request, as outlined in the April 2021 guidance, would be included in the email as part of the monthly attestation process; the indication of phase-out would simply signal the end of that State's need for EA and, thus, monthly attestations. The phase out request is expected to take 1 minute of the 15 minutes estimated for monthly attestation; therefore, no additional burden is estimated for phase-out requests.

Section 18(b) of the Food and Nutrition Act of 2008, as amended, requires that, “In any fiscal year, the Secretary shall limit the value of those allotments issued to an amount not in excess of the appropriation for such fiscal year.” Because the EA waiver increases the monthly benefit of participants above the amount originally anticipated for this fiscal year, the amount of benefits issued and redeemed must be carefully tracked to ensure FNS does not exceed its appropriation. As such, it is necessary for FNS to collect information from State agencies operating EA on a more frequent basis than would be reported normally. Generally, States report disaster-related SNAP participation and issuance data to FNS on the FNS-292B, Report of Disaster Supplemental Nutrition Assistance Benefit Issuance, within 45 days of terminating disaster assistance.

While a State is operating under an EA waiver, (3) FNS requires the State to submit bi-weekly FNS-292B reports. The burden for a State agency to submit FNS-292B reports during normal operations is currently captured under the information collection for the Food Programs Reporting System (FPRS), OMB Control Number 0584-0594 (expiration date 7/31/2023). However, FNS is accounting for the additional burden used for EA in this request and including the burden for submitting this form more frequently under this information collection and is not duplicating the burden efforts for the routine normal operations captured in the FPRS collection.

• FNS-292B—Takes States approximately 24 minutes or 0.4008 hours per response × 53 State Agencies × 26 weeks = 552.30 hours.

Affected Public: State, Local and Tribal Governments.

Estimated Number of Respondents: 53.

Estimated Number of Responses per Respondent: 39.

Estimated Total Annual Responses: 2,067.

Estimated Time per Response: 0.36976294 hours.

Estimated Total Annual Burden on Respondents: 764.30.

Respondent category | Instruments | Form | Number of respondents | Frequency of response | Total annual responses | Hours per response | Annual burden (hours)
State Agencies | Bi-weekly EA Reporting to FNS | FNS-292B | 53 | 26 | 1,378 | 0.4008 | 552.20
| Initial Waiver Request—Emergency Allotment | N/A | 53 | 1 | 53 | 1 | 53
| Monthly EA Attestation (including Phase-Out Requests) | N/A | 53 | 12 | 636 | 0.25 | 159
Total |  |  | 53 | 39 | 2,067 | 0.36976294 | 764.30

Tameka Owens,
Assistant Administrator, Food and Nutrition Service.

[FR Doc. 2022-25410 Filed 11-21-22; 8:45 am]

BILLING CODE 3410-30-P